DEPARTMENT OF THE INTERIOR

Fish and Wildlife Service

[FWS-R2-ES-2011-XXXX; 12345-1234-0000-C2]

Endangered and Threatened Wildlife and Plants; Notice of Availability of a Draft Recovery Plan, First Revision, Mount Graham Red Squirrel for Review and Comment

AGENCY: Fish and Wildlife Service, Interior.

ACTION: Notice of document availability for review and public comment.

SUMMARY: We, the Fish and Wildlife Service, announce the availability of our draft recovery plan, first revision, for the Mount Graham Red Squirrel (Tamiasciurus hudsonicus grahamensis) under the Endangered Species Act of 1973, as amended (Act). This species is endemic to upper-elevation forests in the Pinaleño Mountains in southeastern Arizona. We request review and comment on our plan from local, State, and Federal agencies, Tribes, and the public. We will also accept any new information on the species' status throughout its range.

DATES: We must receive written comments on or before July 26, 2011. However, we will accept information about any species at any time.

ADDRESSES: If you wish to review the draft recovery plan, you may obtain a copy by visiting our Web site at http://endangered.fws.gov/recovery/index.html#plans. Alternatively, you may contact the Arizona Ecological Services Office, U.S. Fish and Wildlife Service, 2321 W. Royal Palm Road, Suite 103, Phoenix, AZ 85021-4951 (602-242-0210, phone). If you wish to comment on the plan, you may submit your comments in writing by any one of the following methods:

• U.S. mail: Field Supervisor, at the above address;

• Hand-delivery: Arizona Ecological Services Office at the above address;

• Fax: (602) 242-2513; or

• E-mail: MGRSrecovery@fws.gov.

For additional information about submitting comments, see the “Request for Public Comments” section below.

FOR FURTHER INFORMATION CONTACT: Marit Alanen, Fish and Wildlife Biologist, at the above address, phone number, or e-mail.

SUPPLEMENTARY INFORMATION:

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species' History

We listed the Mount Graham red squirrel as an endangered species under the Act on June 3, 1987 (52 FR 20994). We designated critical habitat on January 5, 1990 (55 FR 425).

We originally completed and announced a recovery plan for the species on May 3, 1993. However, given the species' current status, the recommendations in that plan are now outdated.

The Mount Graham red squirrel exists only in the upper-elevation forests of the Pinaleño Mountains in southeastern Arizona, and likely represents a relictual population of what was once a much more widely distributed taxon. Threats to the subspecies at the time of listing included its small population size and range; changes in forest age structure and density within the squirrel's habitat; loss of habitat due to development, road construction, and forest fire; and competition with the introduced Abert's squirrel. These same threats to the red squirrel's habitat continue today, compounded by the additional threats of climate change (including drought), insect infestation, and fire suppression activities. Recent research also indicates that predation, competition with Abert's squirrels, and demographic factors (mainly due to its small population size) may impact the Mount Graham red squirrel population more than expected.

Recovery Plan Goals

The objective of an agency recovery plan is to provide a framework for the recovery of a species so that protection under the Act is no longer necessary. A recovery plan includes scientific information about the species and provides criteria and actions necessary for us to be able to reclassify the species to threatened status or remove it from the Federal List of Endangered and Threatened Wildlife and Plants (List). Recovery plans help guide our recovery efforts by describing actions we consider necessary for the species' conservation, and by estimating time and costs for implementing needed recovery measures. To achieve its goals, this draft recovery plan identifies the following objectives:

• Restore and maintain sufficient Mount Graham red squirrel habitat to ensure the species' survival despite environmental stochasticity and the threat of climate change.

• Maintain a self-sustaining population of Mount Graham red squirrels sufficient to ensure the species' survival.

The draft revised recovery plan contains new downlisting and delisting criteria based on maintaining and increasing population numbers and habitat quality. The revised recovery plan focuses on protecting and managing the remaining population and habitat, restoring and creating habitat to allow for the existence of a viable and robust population, researching the conservation biology of the Mount Graham red squirrel with the objective of facilitating efficient recovery, developing support and building partnerships to facilitate recovery, and monitoring progress toward recovery and practicing adaptive management.

As the species meets reclassification and recovery criteria, we will review the species' status and consider the species for reclassification on or removal from the List.

Request for Public Comments

Section 4(f) of the Act requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

We invite written comments on the draft revised recovery plan. This plan has undergone significant revision since the original plan, incorporating the most recent scientific research specific to the Mount Graham red squirrel and input from the Technical and Stakeholder Subgroups of the Recovery Team. Therefore, we encourage commenters to review the recovery plan in its entirety.

Before we approve the plan, we will consider all comments we receive by the date specified in DATES above. Methods of submitting comments are in the ADDRESSES section above.

Public Availability of Comments

Before including your address, phone number, e-mail address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

Authority

We developed our draft recovery plan under the authority of section 4(f) of the Act, 16 U.S.C. 1533(f). We publish this notice under section 4(f) Endangered Species Act of 1973, as amended (16 U.S.C. 1531 et seq.).

Dated: April 18, 2011.
Joy E. Nicholopoulos,
Acting Regional Director, Southwest Region.

[FR Doc. 2011-13044 Filed 5-26-11; 8:45 am]

BILLING CODE 4310-55-P